DEPARTMENT OF HEALTH AND HUMAN SERVICES

Health Resources and Services Administration

School-Based Health Center Program

AGENCY: Health Resources and Services Administration (HRSA), Department of Health and Human Services (HHS).

ACTION: Notice of Noncompetitive Replacement Award to the School Board of Gadsden County.

SUMMARY: HRSA will be transferring a School-Based Health Center Capital (SBHCC) Program grant, as authorized by the Patient Protection and Affordable Care Act (Affordable Care Act) (Pub. L. 111-148), Title IV, Section 4101(a)), originally awarded to ICAN/ICAN TOO Organization, Inc., Havana, Florida, in order to ensure that significant and pressing capital needs to improve service delivery and support the expansion of services at school-based health centers will continue.

SUPPLEMENTARY INFORMATION:

Former Grantee of Record: ICAN/ICAN TOO Organization, Inc.

Original Period of Grant Support: December 1, 2011, to November 30, 2013.

Replacement Awardee: The School Board of Gadsden County.

Amount of Replacement Award: The current award to ICAN/ICAN TOO Organization, Inc., was issued in the amount of $499,974. ICAN/ICAN TOO Organization, Inc., and The School Board of Gadsden County have agreed that the remaining amounts as of the date of this Federal Register Notice will be transferred.

Period of Replacement Award: The period of support for the replacement award is April 1, 2013, to November 30, 2013.

Authority: Patient Protection and Affordable Care Act (Affordable Care Act) ((Pub. L. 111-148), Title IV, Section 4101(a)).

CFDA Number: 93.501.

Justification for the Exception to Competition: The former grantee, ICAN/ICAN Too Organization, Inc., has requested that HRSA transfer the School-Based Health Center Capital Program funds to The School Board of Gadsden County to implement and carry out grant activities originally proposed under the ICAN/ICAN TOO Organization, Inc.'s, funded SBHCC grant application. The School Board of Gadsden County was originally identified as the sponsoring facility with ICAN/ICAN TOO Organization, Inc., on the implementation of the activities funded through the SBHCC grant and will continue to implement the same activities.

FOR FURTHER INFORMATION CONTACT: Matt Kozar, Supervisory Public Health Analyst, Bureau of Primary Health Care, HRSA, 5600 Fishers Lane, Rockville, MD 20857, via email at MKozar@hrsa.gov; or phone at 301-443-1034.

Dated: July 11, 2013.
Mary K. Wakefield,
Administrator.

[FR Doc. 2013-17127 Filed 7-16-13; 8:45 am]

BILLING CODE 4165-15-P